DEPARTMENT OF LABOR

Employment and Training Administration

[TA-W-75,162]

Pisgah Yarn and Dyeing Company Including On-Site Leased Workers From Manpower, Inc. Old Fort, NC; Notice of Affirmative Determination Regarding Application for Reconsideration

By application dated May 12, 2011, workers requested administrative reconsideration of the negative determination regarding workers' eligibility to apply for Trade Adjustment Assistance (TAA) applicable to workers and former workers of Pisgah Yarn & Dyeing Company, Old Fort, North Carolina (subject firm). The worker group includes on-site leased workers from Manpower, Inc. The determination was issued on April 28, 2011. The Department's Notice of Determination will soon be published in the Federal Register. The workers are engaged in employment related to the production of cotton yarn used for craft trade.

The negative determination was based on the findings that there was no shift to/acquisition from a foreign country by the subject firm in production of yarn; that the quantity of sales and production at the subject firm increased in 2010 from 2009 levels; that the subject firm is neither a Supplier nor a Downstream Producer to a firm that employed a worker group eligible to apply for Trade Adjustment Assistance; and that the subject firm was not named in an affirmative finding of injury by the U.S. International Trade Commission.

In the request for reconsideration, the petitioners alleged that the company was sold to a Canadian firm.

The Department has carefully reviewed the request for reconsideration and the existing record, and has determined that the Department will conduct further investigation to determine if the petitioning workers meet the eligibility requirements of the Trade Act of 1974, as amended. Specifically, the Department will conduct further investigation to determine whether the purchasing firm was a successor-in-interest.

Conclusion

After careful review of the application, I conclude that the claim is of sufficient weight to justify reconsideration of the U.S. Department of Labor's prior decision. The application is, therefore, granted.

Signed at Washington, DC, this 16th day of May 2011.
Del Min Amy Chen,
Certifying Officer, Office of Trade Adjustment Assistance.

[FR Doc. 2011-12774 Filed 5-24-11; 8:45 am]

BILLING CODE 4510-FN-P